OFFICE OF PERSONNEL MANAGEMENT

Reinstatement, Without Change of a Previously Approved Collection For Which Approval Has Expired; IS-10

AGENCY: U.S. Office of Personnel Management.

ACTION: Notice.

SUMMARY: In accordance with the Paperwork Reduction Act of 1995 (Public Law 104-13) and 5 CFR 1320.5(a)(I)(iv) this notice announces that OPM intends to submit to the Office of Management and Budget (OMB) a request for clearance of a revised information collection. The Mail Reinterview Form, IS-10, a two sided form, is completed by individuals who have been interviewed by a contract Investigator during the course of a personnel investigation. The front of the form is a letter requesting the sender to respond to the questions on the back of the form. Used as a quality assurance instrument, the questions on the back of the form ask questions regarding the performance of the investigator.

The letter and questionnaire portions have been reworded to comply with “plain language” precepts. We have eliminated obsolete and extraneous language in the letter. The reinterview questions on the back of the form have been revised and reduced to make it clearer. The form number has been revised to comply with the Investigations Service reorganization.

We estimate that 600 individuals will respond annually, each response requiring approximately 6 minutes to complete, for a total burden of 60 hours. This submission represents a change in number of respondents.

For copies of this proposal contact Mary Beth Smith-Toomey at (202) 606-8358 or fax (202) 418-3251 or by e-mail to mbtoomey@opm.gov.

DATES: Comments on this proposal should be received on or before November 13, 2000.

ADDRESSES: Send or deliver written comments to: Richard A. Ferris, Associate Director, Investigations Service, U.S. Office of Personnel Management, Room 5416, 1900 E. Street NW. Washington, DC 20415-4000.

FOR FURTHER INFORMATION CONTACT: Rasheedah I. Ahmad, Program Analyst, (202) 606-7983 or FAX (202) 606-2390.

U.S. Office of Personnel Management.
Janice R. Lachance,
Director.

[FR Doc. 00-23277 Filed 9-11-00; 8:45 am]

BILLING CODE 6325-01-P